ENVIRONMENTAL PROTECTION AGENCY

[FRL-6873-6]

Agency Information Collection Activities; EPA ICR No. 1214.05; Submission to OMB; Additional Opportunity To Comment

AGENCY: Environmental Protection Agency (EPA).

ACTION: Notice.

SUMMARY: In compliance with the Paperwork Reduction Act (PRA) (44 U.S.C. 3501 et seq.), this document announces that the following Information Collection Request (ICR) has been forwarded to the Office of Management and Budget (OMB) for review and approval: Pesticide Product Registration Maintenance Fee (EPA No. 1214.05; OMB Control No. 2070-0100). The ICR, which is abstracted below, describes the nature of the information collection activity and its expected burden and costs. A Federal Register document, required under 5 CFR 1320.8(d), soliciting comments on this information collection was issued on March 8, 2000 (65 FR 12225). EPA did not receive any comments.

DATES: Additional comments may be submitted on or before October 23, 2000.

ADDRESSES: Send comments, referencing EPA ICR No. 1215.05 and OMB Control No. 2070-0100, to the following addresses: Ms. Sandy Farmer, U.S. Environmental Protection Agency, Collection Strategies Division (2822), 1200 Pennsylvania Ave, NW., Washington, DC 20460; and to: Office of Information and Regulatory Affairs, Office of Management and Budget, Attention: Desk Officer for EPA, 725 17th Street, NW., Washington, DC 20503.

FOR FURTHER INFORMATION CONTACT: Sandy Farmer at EPA by phone on 202-260-2740, by e-mail: farmer.sandy@epa.gov, or using the address indicated below. You may also access the ICR at http://www.epa.gov/icr/icr.htm. Refer to EPA ICR No 1214.05 or OMB Control No. 2070-0100.

SUPPLEMENTARY INFORMATION: Title: Pesticide Product Registration Maintenance Fee (EPA No. 1214.05; OMB Control No. 2070-0100).

Request: This is a request for the extension of an existing collection activity, the approval for which is currently schedule to expire on September 30, 2000. Under 5 CFR 1320.10(e)(2), the Agency may continue to conduct or sponsor the collection of information while the submission is pending at OMB.

Abstract: This information collection program provides a practical means of communication between the pesticide registrants and the Agency to facilitate the proper collection of the pesticide product registration maintenance fees as required by section 4(i)(5) of the Federal Insecticide, Fungicide, and Rodenticide Act (FIFRA), as amended. Each registrant of a pesticide product originally registered before November 1, 1984 is required to complete a filing form and submit their fee payment by January 15 of each year. The pesticide registrant (respondents) complete and submit EPA Form 8570-30 indicating the respondent's liability for the registration maintenance fee for pesticide products registered by that firm. The failure to pay the required fee for a product will result in cancellation of that product.

An Agency may not conduct or sponsor, and a person is not required to respond to a collection of information that is subject to approval under the Paperwork Reduction Act, unless it displays a currently valid OMB control number. The OMB control numbers for EPA's information collections appear as part of the collection instruments (i.e., form or instructions), in the Federal Register notices for related rulemaking and ICR notices, and, if the collection is contained in a regulation, in a table of OMB approval numbers in 40 CFR part 9.

Burden Statement: The annual public reporting burden for this collection of information is estimated to average about one hour per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

The ICR provides a detailed explanation of the burden and cost estimates for this ICR, which are only briefly summarized here:

Respondents/Affected Entities: Pesticide registrants.

Estimated Number of Respondents: 1,977.

Frequency of Response: Annually, by January 15.

Estimated Total Annual Burden: 1,858 hours.

Estimated Total Annual Non-labor Burden Costs: $0.

Changes in the ICR Since the Last Approval: The total burden associated with this ICR has decreased 130 hours, from 1,988 hours in the previous ICR to 1,858 for this ICR. This adjustment in the estimated burden reflects a decrease in the number of potential respondents which has been adjusted to match the number of actual respondents in 1999. The activity itself, and the per activity and per respondent burden estimates have not changed.

According to the procedures prescribed in 5 CFR 1320.12, EPA has submitted this ICR to OMB for review and approval. Any comments related to the renewal of this ICR should be submitted within 30 days of this notice, as described above.

Dated: September 12, 2000.
Oscar Morales,
Director, Collection Strategies Division.

[FR Doc. 00-24315 Filed 9-20-00; 8:45 am]

BILLING CODE 6560-50-P